DEPARTMENT OF COMMERCE

National Oceanic and Atmospheric Administration

[I.D. 120605A]

U.S. Climate Change Science Program Synthesis and Assessment Product Prospectuses

AGENCY: National Oceanic and Atmospheric Administration (NOAA), Department of Commerce.

ACTION: Notice of availability and request for public comments.

SUMMARY: The National Oceanic and Atmospheric Administration publishes this notice to announce the availability of draft Prospectuses for four of the U.S. Climate Change Science Program (CCSP) Synthesis and Assessment Products (Products) for public comment. These draft Prospectuses address the following CCSP Topics:

Product 1.3 Reanalysis of Historical Climate Data for Key Atmospheric Features:

Implications for Attribution of Causes of Observed Change;

Product 4.1 Coastal Elevation and Sensitivity to Sea-Level Rise;

Product 5.1 Uses and Limitations of Observations, Data, Forecasts, and other Projections in Decision Support for Selected Sectors and Regions; and

Product 5.3 Decision Support Experiments and Evaluations Using Seasonal to Interannual Forecasts and Observational Data.

After consideration of comments received on the draft Prospectuses, the final Prospectuses along with the comments received will be published on the CCSP Web site.

DATES: Comments must be received by January 30, 2006.

ADDRESSES: The draft Prospectuses are posted on the CCSP Program Office Web site. The Web addresses to access the draft Prospectuses are:

Product 1.3 (Reanalysis):

http://www.climatescience.gov/Library/sap/sap1-3/default.htm

Product 4.1 (Sea Level):

http://www.climatescience.gov/Library

/sap/sap4-1/default.htm

Product 5.1 (Observations):

http://www.climatescience.gov/Library/

sap/sap5-1/default.htm

Product 5.3 (Seasonal):

http://www.climatescience.gov/Library

/sap/sap5-3/default.htm

Detailed instructions for making comments on the draft Prospectuses are provided with each Prospectus. Comments should be prepared in accordance with these instructions.

FOR FURTHER INFORMATION CONTACT: Richard H. Moss, Ph.D., Director, Climate Change Science Program Office, 1717 Pennsylvania Avenue NW., Suite 250, Washington, DC 20006, Telephone: (202) 419-3476.

SUPPLEMENTARY INFORMATION: The CCSP was established by the President in 2002 to coordinate and integrate scientific research on global change and climate change sponsored by 13 participating departments and agencies of the U.S. Government. The CCSP is charged with preparing information resources that support climate-related discussions and decisions, including scientific synthesis and assessment analyses that support evaluation of important policy issues. The Prospectuses addressed by this notice provide a topical overview and describe plans for scoping, drafting, reviewing, producing, and disseminating three of 21 final synthesis and assessment Products that will be produced by the CCSP.

Dated: December 7, 2005.
James R. Mahoney,
Assistant Secretary of Commerce for Oceans and Atmosphere, Director, U.S. Climate Change Science Program.

[FR Doc. 05-24027 Filed 12-13-05; 8:45 am]

BILLING CODE 3510-KB-S